DEPARTMENT OF HOMELAND SECURITY

Federal Emergency Management Agency

[Docket ID FEMA-2018-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: January 9, 2018.
Roy E. Wright,
Deputy Associate Administrator for Insurance and Mitigation, Department of Homeland Security, Federal Emergency Management Agency.

State and county | Location and case No. | Chief executive officer of community | Community map repository | Date of modification | Community No.
Arizona:
Cochise (FEMA Docket No.: B-1752) | Unincorporated Areas of Cochise County (17-09-1682P) | The Honorable Ann English, Chair, Board of Supervisors, Cochise County, 1415 West Melody Lane, Building G, Bisbee, AZ 85603 | Cochise County Flood Control District, 1415 West Melody Lane, Building F, Bisbee, AZ 85603 | Dec. 27, 2017 | 040012
Maricopa (FEMA Docket No.: B-1750) | City of Glendale (17-09-0883P) | The Honorable Jerry Weiers, Mayor, City of Glendale, 5850 West Glendale Avenue, Glendale, AZ 85301 | City Hall, 5850 West Glendale Avenue, Glendale, AZ 85301 | Dec. 22, 2017 | 040045
Maricopa (FEMA Docket No.: B-1750) | City of Peoria (17-09-0883P) | The Honorable Cathy Carlat, Mayor, City of Peoria, 8401 West Monroe Street, Peoria, AZ 85345 | City Hall, 8401 West Monroe Street, Peoria, AZ 85345 | Dec. 22, 2017 | 040050
Maricopa (FEMA Docket No.: B-1750) | City of Phoenix (17-09-0814P) | The Honorable Greg Stanton, Mayor, City of Phoenix, 200 West Washington Street, 11th Floor, Phoenix, AZ 85003 | Street Transportation Department, 200 West Washington Street, 5th Floor, Phoenix, AZ 85003 | Dec. 22, 2017 | 040051
California:
Riverside (FEMA Docket No.: B-1746) | Unincorporated Areas of Riverside County (17-09-1375P) | The Honorable John F. Tavaglione, Chairman, Board of Supervisors, Riverside County, 4080 Lemon Street, 5th Floor, Riverside, CA 92501 | Riverside County, Flood Control and Water Conservation District, 1995 Market Street, Riverside, CA 92501 | Nov. 29, 2017 | 060245
San Diego (FEMA Docket No.: B-1750) | Unincorporated Areas of San Diego County (17-09-0655P) | The Honorable Dianne Jacob, Chair, Board of Supervisors, San Diego County, 1600 Pacific Highway, Room 335, San Diego, CA 92101 | Department of Public Works, Flood Control, 5510 Overland Avenue, Suite 410, San Diego, CA 92123 | Dec. 21, 2017 | 060284
Ventura (FEMA Docket No.: B-1752) | City of Fillmore (16-09-2533P) | The Honorable Carrie Broggie, Mayor, City of Fillmore, 250 Central Avenue, Fillmore, CA 93015 | City Hall, 250 Central Avenue, Fillmore, CA 93015 | Dec. 29, 2017 | 060415
Ventura (FEMA Docket No.: B-1752) | Unincorporated Areas of Ventura County (16-09-2533P) | The Honorable John C. Zaragoza, Chairman, Board of Supervisors, Ventura County, 800 South Victoria Avenue, Ventura, CA 93009 | Ventura County, Hall of Administration, 800 South Victoria Avenue, Ventura, CA 93009 | Dec. 29, 2017 | 060413
Florida:
Duval (FEMA Docket No.: B-1750) | City of Jacksonville (17-04-4330P) | The Honorable Lenny Curry, Mayor, City of Jacksonville, City Hall at St. James Building, 117 West Duval Street, Suite 400, Jacksonville, FL 32202 | City Hall, 117 West Duval Street, Jacksonville, FL 32202 | Dec. 15, 2017 | 120077
Leon (FEMA Docket No.: B-1750) | Unincorporated Areas of Leon County (17-04-2660P) | Mr. Vincent Long, County Administrator, Leon County, 301 South Monroe Street 5th Floor, Tallahassee, FL 32301 | Leon County Courthouse, 301 South Monroe Street, Tallahassee, FL 32301 | Dec. 19, 2017 | 120143
St. Johns (FEMA Docket No.: B-1746) | Unincorporated Areas of St. Johns County (17-04-3359P) | The Honorable James K. Johns, Chairman, St. Johns County Board of Commissioners, 500 San Sebastian View, St. Augustine, FL 32084 | St. Johns County Administration Building, 4020 Lewis Speedway, St. Augustine, FL 32084 | Nov. 27, 2017 | 125147
St. Johns (FEMA Docket No.: B-1746) | Unincorporated Areas of St. Johns County (17-04-3769P) | The Honorable James K. Johns, Chairman, St. Johns County Board of Commissioners, 500 San Sebastian View, St. Augustine, FL 32084 | St. Johns County Administration Building, 4020 Lewis Speedway, St. Augustine, FL 32084 | Dec. 6, 2017 | 125147
Idaho: Blaine (FEMA Docket No.: B-1752) | Unincorporated Areas of Blaine County (17-10-0681P) | The Honorable Jacob Greenberg, Commissioner, Blaine County, 206 1st Avenue South, Suite 300, Hailey, ID 83333 | Blaine County Planning & Zoning, 219 1st Avenue South, Suite 208, Hailey, ID 83333 | Dec. 28, 2017 | 165167
Illinois:
Tazewell (FEMA Docket No.: B-1750) | City of Washington (17-05-0896P) | The Honorable Gary W. Manier, Mayor, City of Washington, 301 Walnut Street, Washington, IL 61571 | City Hall, 301 Walnut Street, Washington, IL 61571 | Nov. 9, 2017 | 170655
Tazewell (FEMA Docket No.: B-1750) | Unincorporated Areas of Tazewell County (17-05-0896P) | The Honorable David Zimmerman, Chairman, Tazewell County Board, McKenzie Building, 11 South 4th Street, Suite 432, Pekin, IL 61554 | McKenzie Building, 4th Floor, 11 South 4th Street, Pekin, IL 61554 | Nov. 9, 2017 | 170815
Will (FEMA Docket No.: B-1750) | Unincorporated Areas of Will County (16-05-6813P) | The Honorable Lawrence M. Walsh, County Executive, Will County, Will County Office Building, 302 North Chicago Street, Joliet, IL 60432 | Land Use Department, 58 East Clinton Street, Suite 100, Joliet, IL 60432 | Nov. 28, 2017 | 170695
Will (FEMA Docket No.: B-1750) | Village of Romeoville (17-05-4409P) | The Honorable John D. Noak, Mayor, Village of Romeoville, 1050 West Romeo Road, Romeoville, IL 60446 | Village Hall, 1050 West Romeo Road, Romeoville, IL 60446 | Dec. 22, 2017 | 170711
Iowa: Bremer (FEMA Docket No.: B-1750) | City of Waverly (17-07-0954P) | The Honorable Charles D. Infelt, Mayor, City of Waverly, 200 1st Street Northeast, Waverly, IA 50677 | City Hall, 200 1st Street Northeast, Waverly, IA 50677 | Dec. 22, 2017 | 190030
Kansas:
Johnson (FEMA Docket No.: B-1746) | City of Leawood (17-07-1313P) | The Honorable Peggy J. Dunn, Mayor, City of Leawood, City Hall, 4800 Town Center Drive, Leawood, KS 66211 | City Hall, 4800 Town Center Drive, Leawood, KS 66211 | Nov. 15, 2017 | 200167
Johnson (FEMA Docket No.: B-1746) | City of Olathe (17-07-1191P) | The Honorable Michael Copeland, Mayor, City of Olathe, 100 East Santa Fe Street, Olathe, KS 66061 | City Hall, Planning Office, 100 East Santa Fe Drive, Olathe, KS 66061 | Nov. 24, 2017 | 200173
Missouri:
St. Louis (FEMA Docket No.: B-1750) | City of Chesterfield (16-07-2013P) | The Honorable Bob Nation, Mayor, City of Chesterfield, Chesterfield City Hall, 690 Chesterfield Parkway West, Chesterfield, MO 63017 | City Hall, 690 Chesterfield Parkway West, Chesterfield, MO 63017 | Dec. 5, 2017 | 290896
St. Louis (FEMA Docket No.: B-1746) | City of Chesterfield (17-07-0724P) | The Honorable Bob Nation, Mayor, City of Chesterfield, 690 Chesterfield Parkway West, Chesterfield, MO 63017 | Chesterfield Municipal Court, 690 Chesterfield Parkway West, Chesterfield, MO 63017 | Nov. 16, 2017 | 290896
St. Louis (FEMA Docket No.: B-1750) | City of Creve Coeur (16-07-2013P) | The Honorable Barry Glantz, Mayor, City of Creve Coeur, Creve Coeur Government Center, 300 North New Ballas Road, Creve Coeur, MO 63141 | Government Center, 300 North New Ballas Road, Creve Coeur, MO 63141 | Dec. 5, 2017 | 290344
St. Louis (FEMA Docket No.: B-1750) | City of Town and Country (16-07-2013P) | The Honorable Jon F. Dalton, Mayor, City of Town and Country, Municipal Center, 1011 Municipal Center Drive, Town and Country, MO 63131 | Municipal Center, 1011 Municipal Center Drive, Town and Country MO 63131 | Dec. 5, 2017 | 290389
St. Louis (FEMA Docket No.: B-1750) | Unincorporated Areas of St. Louis County (16-07-2013P) | Mr. Steven A. Stenger, County Executive, St. Louis County, St. Louis County Government Center, 41 South Central, Clayton, MO 63105 | St. Louis County Government Community Development, 121 South Meramec Avenue, Clayton, MO 63105 | Dec. 5, 2017 | 290327
Nevada:
Carson City (FEMA Docket No.: B-1750) | City of Carson City (16-09-1091P) | The Honorable Robert Crowell, Mayor, City of Carson City, City Hall, 201 North Carson Street Suite 2, Carson City, NV 89701 | Carson City, Permit Center, 108 East Proctor Street, Carson City, NV 89701 | Dec. 26, 2017 | 320001
Clark (FEMA Docket No.: B-1752) | Unincorporated Areas of Clark County (17-09-0607P) | The Honorable Steve Sisolak, Chairman, Board of Supervisors, Clark County, 500 South Grand Central Parkway, 6th Floor, Las Vegas, NV 89106 | Office of the Director of Public Works, 500 South Grand Central Parkway, Las Vegas, NV 89155 | Dec. 26, 2017 | 320003
Ohio:
Fairfield (FEMA Docket No.: B-1750) | City of Lancaster (17-05-3331P) | The Honorable David S. Smith, Mayor, City of Lancaster, Lancaster City Hall, 104 East Main Street, Room 101, Lancaster, OH 43130 | Municipal Building, 121 East Chestnut Street, Suite 100, Lancaster, OH 43130 | Dec. 14, 2017 | 390161
Lake (FEMA Docket No.: B-1750) | City of Wickliffe (16-05-5396P) | The Honorable William A. Margalis, Mayor, City of Wickliffe, Wickliffe City Hall, 28730 Ridge Road, Wickliffe, OH 44092 | City Hall, Building Department, 28730 Ridge Road, Wickliffe, OH 44092 | Dec. 21, 2017 | 390321
Montgomery (FEMA Docket No.: B-1752) | City of West Carrollton (16-05-4433P) | The Honorable Jeff Sanner, Mayor, City of West Carrollton, 300 East Central Avenue, West Carrollton, OH 45449 | Civic Center, 300 East Central Avenue, West Carrollton, OH 45449 | Dec. 28, 2017 | 390419
Oregon: Jackson (FEMA Docket No.: B-1750) | City of Medford (17-10-0050P) | The Honorable Gary Wheeler, Mayor, City of Medford, 411 West 8th Street, Medford, OR 97501 | City Hall, 411 West 8th Street, Medford, OR 97501 | Dec. 1, 2017 | 410096
Texas:
Dallas (FEMA Docket No.: B-1746) | City of Dallas (17-06-0928P) | The Honorable Michael S. Rawlings, Mayor, City of Dallas, Office of the Mayor, 1500 Marilla Street, Suite 5EN, Dallas, TX 75201 | Department of Public Works, 320 East Jefferson Street, Room 321, Dallas, TX 75203 | Nov. 24, 2017 | 480171
Dallas and Tarrant (FEMA Docket No.: B-1746) | City of Grand Prairie (17-06-0659P) | The Honorable Ron Jensen, Mayor, City of Grand Prairie, 317 West College Street, Grand Prairie, TX 75053 | City Development Center, 206 West Church Street, Grand Prairie, TX 75050 | Nov. 16, 2017 | 485472
Tarrant (FEMA Docket No.: B-1746) | City of Fort Worth (17-06-0659P) | The Honorable Betsy Price, Mayor, City of Fort Worth, 200 Texas Street, Fort Worth, TX 76102 | Department of Transportation and Public Works, 1000 Throckmorton Street, Fort Worth, TX 76102 | Nov. 16, 2017 | 480596
Washington: Island (FEMA Docket No.: B-1750) | Unincorporated Areas of Island County (17-10-1006P) | Mr. Richard Hannold, Commissioner, Island County, 1 Northeast 7th Street, Room 214, Coupeville, WA 98239 | Island County Courthouse Annex, 1 Northeast 6th Street, Coupeville, WA 98239 | Dec. 18, 2017 | 530312
Wisconsin: Waukesha (FEMA Docket No.: B-1746) | Unincorporated Areas of Waukesha County (17-05-3462P) | The Honorable Paul L. Decker, Waukesha County Board Chair, County Courthouse, 515 West Moreland Boulevard, Room C170, Waukesha, WI 53188 | Waukesha County Administration Center, 515 West Moreland Boulevard, Waukesha, WI 53188 | Nov. 20, 2017 | 550476

[FR Doc. 2018-01217 Filed 1-23-18; 8:45 am]

BILLING CODE 9110-12-P